FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 25, 2008.

A. Federal Reserve Bank of San Francisco (Kenneth Binning, Director, Regional and Community Bank Group) 101 Market Street, San Francisco, California 94105-1579:

1. Russell Goldsmith, individually, and as part of a family group, including the Bram & Elaine Goldsmith Family Trust, the Elaine Goldsmith Revocable Trust, the Bruce Leigh Goldsmith Revocable Trust, the Goldsmith Family Partnership, the Goldsmith Family Foundation, and other related family trusts, partnerships, and foundations, all of Los Angeles, California, to retain control and to acquire additional voting shares of City National Corporation, and thereby indirectly retain control and acquire additional voting shares of City National Bank, both of Beverly Hills, California.

Board of Governors of the Federal Reserve System, August 5, 2008.
Jennifer J. Johnson,
Secretary of the Board.

[FR Doc. E8-18365 Filed 8-8-08; 8:45 am]

BILLING CODE 6210-01-S